Title 3—

The President

Proclamation 10172 of April 1, 2021

World Autism Awareness Day, 2021

By the President of the United States of America

A Proclamation

On World Autism Awareness Day, we celebrate the countless ways that people with autism contribute to our families, our communities, our Nation, and the world, and we shine a light on the systemic barriers people with autism face in their daily lives.

More than 2 percent of American adults and 1 in every 54 of our children have autism—a community of millions who deserve to live full lives of dignity and respect. My Administration is committed to funding cutting-edge research to help us to better understand autism and related health conditions in order to improve quality of life for people with autism and their families in every community.

Recent Government initiatives have focused on detecting autism in the first year of life, funding new national research networks to improve our knowledge of autism, and advancing services and support to help Americans with autism live independently in their communities. A recent apprenticeship initiative from the Department of Labor seeks to open up career pathways for people with autism and other developmental disabilities in thriving fields like information technology and health care. Investments like these and others that we continue to pursue are critical to expanding possibilities and improving life for all people with autism.

Meanwhile, agencies across the Federal Government are working to protect the rights of all people with disabilities—including people with autism—while also advancing equity when it comes to accessing vital services and supports. Our research agencies are working to reduce barriers in access to early diagnoses, interventions, and services for people with autism—including those from diverse racial, ethnic, and cultural backgrounds and rural communities—and to incorporate the perspectives of individuals with autism in scientific research. For too long, disparities in access to health care, education, and services have placed an undue burden on individuals with disabilities and their loved ones, particularly those from underserved communities. My Administration is committed to addressing these inequities in partnership with the Interagency Autism Coordinating Committee and the National Autism Coordinator of the Department of Health and Human Services.

We also recognize that the COVID-19 pandemic has caused unique disruptions to, and placed new strains on, the lives of individuals with autism and their families. All Americans should be grateful for the creativity and dedication of educators, health care providers, and others who have rapidly adapted to the limitations of the pandemic by offering virtual learning, telehealth appointments, and other remote services. My Administration is working tirelessly to get America vaccinated, get our children safely back in school, and deliver direct economic relief to families across the country in order to end this year of disruption and alleviate as much of the burden as possible. In addition, agencies including the Centers for Disease Control and Prevention, the National Institutes of Health, and the Department of Education are hard at work developing data-driven guidance to help people with disabilities and their families mitigate the far-reaching effects of the pandemic.

Today, we honor those with autism and recommit ourselves to providing them and their families with the investment, support, and care they need to live independently, fully participate in their communities, and live fulfilling lives of dignity and opportunity.

NOW, THEREFORE, I, JOSEPH R. BIDEN JR., President of the United States of America, by virtue of the authority vested in me by the Constitution and the laws of the United States, do hereby proclaim April 2, 2021, as World Autism Awareness Day. I call upon all Americans to learn more about autism to improve early diagnosis, to learn more about the experiences of autistic people from autistic people, and to build more welcoming and inclusive communities to support people with autism.

IN WITNESS WHEREOF, I have hereunto set my hand this first day of April, in the year of our Lord two thousand twenty-one, and of the Independence of the United States of America the two hundred and forty-fifth.

[FR Doc. 2021-07238

Filed 4-6-21; 8:45 am]

Billing code 3295-F1-P